DEPARTMENT OF HOMELAND SECURITY

U.S. Customs and Border Protection

Agency Information Collection Activities: Transfer of Cargo to a Container Station

AGENCY: U.S. Customs and Border Protection, Department of Homeland Security.

ACTION: 30-Day Notice and request for comments; Extension of an existing information collection with a change to the burden hours: 1651-0096.

SUMMARY: As part of its continuing effort to reduce paperwork and respondent burden, CBP invites the general public and other Federal agencies to comment on an information collection requirement concerning the Transfer of Cargo to a Container Station. This proposed information collection was previously published in the Federal Register (74 FR 5846-5847) on February 2, 2009, allowing for a 60-day comment period. This notice allows for an additional 30 days for public comments. This request for comment is being made pursuant to the Paperwork Reduction Act of 1995 (Pub. L. 104-13; 44 U.S.C. 3505(c)(2)).

DATES: Written comments should be received on or before May 15, 2009, to be assured of consideration.

ADDRESSES: Direct all written comments to U.S. Customs and Border Protection, Attn: Tracey Denning, Room 3.2.C, 1300 Pennsylvania Avenue, NW., Washington, DC 20229.

FOR FURTHER INFORMATION CONTACT: Requests for additional information should be directed to U.S. Customs and Border Protection, Attn.: Tracey Denning, Room 3.2.C, 1300 Pennsylvania Avenue NW., Washington, DC 20229, Tel. (202) 344-1429.

SUPPLEMENTARY INFORMATION: CBP invites the general public and other Federal agencies to comment on proposed and/or continuing information collections pursuant to the Paperwork Reduction Act of 1995 (Pub. L. 104-13; 44 U.S.C. 3505(c)(2)). The comments should address: (a) Whether the collection of information is necessary for the proper performance of the functions of the agency, including whether the information shall have practical utility; (b) the accuracy of the agency's estimates of the burden of the collection of information; (c) ways to enhance the quality, utility, and clarity of the information to be collected; (d) ways to minimize the burden including the use of automated collection techniques or the use of other forms of information technology; and (e) the annual costs burden to respondents or record keepers from the collection of information (a total capital/startup costs and operations and maintenance costs). The comments that are submitted will be summarized and included in the CBP request for Office of Management and Budget (OMB) approval. All comments will become a matter of public record. In this document CBP is soliciting comments concerning the following information collection:

Title: Transfer of Cargo to a Container Station.

OMB Number: 1651-0096.

Form Number: None.

Abstract: Before the filing of an entry of merchandise for the purpose of breaking bulk and redelivery of the cargo, containerized cargo may be moved from the place of unlading, or may be received directly at the container station from a bonded carrier after transportation-in-bond. This also applies to loose cargo as part of containerized cargo. The container station operator may make a request for the transfer of a container intact to the station. This is pursuant to the requirements of 19 CFR 41, 19 CFR 42, 19 CFR 44, and 19 CFR 45.

Current Actions: This submission is being made to extend the expiration date with a change to the burden hours resulting from a more accurate estimate of the number of container stations.

Type of Review: Extension (with change).

Affected Public: Business or other for-profit institutions.

Estimated Number of Respondents: 14,327.

Estimated Time per Respondent: 7 minutes.

Estimated Number of Annual Responses per Respondent: 25.

Estimated Total Annual Burden Hours: 41,548.

Dated: April 8, 2009.
Tracey Denning,
Agency Clearance Officer, Information Services Branch.

[FR Doc. E9-8596 Filed 4-14-09; 8:45 am]

BILLING CODE 9111-14-P